DEPARTMENT OF HEALTH AND HUMAN SERVICES

Centers for Disease Control and Prevention

[60Day-18-18AWP; Docket No. CDC-2018-0083]

Proposed Data Collection Submitted for Public Comment and Recommendations

AGENCY: Centers for Disease Control and Prevention (CDC), Department of Health and Human Services (HHS).

ACTION: Notice with comment period.

SUMMARY: The Centers for Disease Control and Prevention (CDC), as part of its continuing effort to reduce public burden and maximize the utility of government information, invites the general public and other Federal agencies the opportunity to comment on a proposed and/or continuing information collection, as required by the Paperwork Reduction Act of 1995. This notice invites comment on a proposed information collection project titled Using Social Media for Recruitment in Cancer Prevention and Control Survey-Based Research (SMFR) project. The SMFR project aims to better understand how individuals at high-risk for cancer discuss risk and genetic testing with their families, while evaluating the feasibility of using social media to conduct survey-based cancer prevention and control research for survey recruitment.

DATES: CDC must receive written comments on or before November 19, 2018.

ADDRESSES: You may submit comments, identified by Docket No. CDC-2018-0083 by any of the following methods:

• Federal eRulemaking Portal: Regulations.gov. Follow the instructions for submitting comments.

• Mail: Jeffrey M. Zirger, Information Collection Review Office, Centers for Disease Control and Prevention, 1600 Clifton Road NE, MS-D74, Atlanta, Georgia 30329.

Instructions: All submissions received must include the agency name and Docket Number. CDC will post, without change, all relevant comments to Regulations.gov.

Please note: Submit all comments through the Federal eRulemaking portal (regulations.gov) or by U.S. mail to the address listed above.

FOR FURTHER INFORMATION CONTACT: To request more information on the proposed project or to obtain a copy of the information collection plan and instruments, contact Jeffrey M. Zirger, Information Collection Review Office, Centers for Disease Control and Prevention, 1600 Clifton Road NE, MS-D74, Atlanta, Georgia 30329; phone: 404-639-7570; Email: omb@cdc.gov.

SUPPLEMENTARY INFORMATION: Under the Paperwork Reduction Act of 1995 (PRA) (44 U.S.C. 3501-3520), Federal agencies must obtain approval from the Office of Management and Budget (OMB) for each collection of information they conduct or sponsor. In addition, the PRA also requires Federal agencies to provide a 60-day notice in the Federal Register concerning each proposed collection of information, including each new proposed collection, each proposed extension of existing collection of information, and each reinstatement of previously approved information collection before submitting the collection to the OMB for approval. To comply with this requirement, we are publishing this notice of a proposed data collection as described below.

The OMB is particularly interested in comments that will help:

1. Evaluate whether the proposed collection of information is necessary for the proper performance of the functions of the agency, including whether the information will have practical utility;

2. Evaluate the accuracy of the agency's estimate of the burden of the proposed collection of information, including the validity of the methodology and assumptions used;

3. Enhance the quality, utility, and clarity of the information to be collected; and

4. Minimize the burden of the collection of information on those who are to respond, including through the use of appropriate automated, electronic, mechanical, or other technological collection techniques or other forms of information technology, e.g., permitting electronic submissions of responses.

5. Assess information collection costs.

Proposed Project

Using Social Media for Recruitment in Cancer Prevention and Control Survey-Based Research (SMFR) project—New—National Center for Chronic Disease Prevention and Health Promotion (NCCDPHP), Centers for Disease Control and Prevention (CDC).

Background and Brief Description

This project involves formative research to assess the feasibility of using social media to conduct survey-based cancer prevention and control research for study recruitment. To achieve this goal, the project will field four online surveys for three distinct populations using Facebook, Twitter, and Google ads as tools for recruitment. Sampling bias and ability to use weights, among other statistical methods, to correct for potential bias will be assessed at the conclusion of the study.

This project has two aims:

Aim 1: To develop and launch surveys with three populations of interest to cancer prevention and control research using social media platforms for study recruitment. This will consist of using Facebook, Twitter, and Google ads to recruit participants from three groups: The general population (for cancer screening), cancer survivors, and those at high risk for cancer. Survey questions will be taken from previously administered national surveys, such as NHIS, HINTS, and MEPS, in addition to questions specially developed for this study.

Aim 2: To assess the extent of sampling bias associated with surveys using social media platforms as frames for non-proportional sampling and the ability to use weights or other statistical methods to correct for potential biases. Content for the social media surveys will include questions from nationally representative surveys (such as the National Health Interview Survey) to enable socio-demographic and health history comparisons with nationally representative populations. In addition we will explore the ability to use post-stratification weights, propensity scores, or other statistical methods to address issues of potential sampling bias.

The first survey will target the general population, focusing on cancer screening and access to care. The second survey will target cancer survivors and focus on general health and well-being post-treatment. The third and fourth surveys will target those at high risk for cancer focusing on communication of genetic risk among family members and the tools and resources needed for risk communication.

Individuals will be recruited to participate in the web survey through ads posted on social media sites including Facebook, Twitter, and Google Analytics. Self-reported data provided on users' profile pages may be applied for targeting to maximize the value of each ad.

• Ads for the general population survey will be targeted toward users whose profiles indicate they are 40 or older. Individuals will be screened for eligibility until the target of up to 1,000 completes is met. It is expected that to reach 1,000 eligible respondents for the general population survey, 1,500 individuals will need to be screened.

• Ads for the survivorship survey will be targeted toward users who `like', search, and/or visit web pages geared toward survivors, such as the National Cancer Survivors Day Facebook page. Individuals will be screened for eligibility until the target of up to 1,000 completes is met. It is expected that to reach 1,000 eligible respondents for the survivorship survey, 3,000 individuals will need to be screened.

• Ads for the high-risk survey will be targeted toward users who `like', visit, or search for terms related to cancer and genetic testing. Individuals will be screened for eligibility until the target of up to 1,000 completes is met. It is expected that to reach 1,000 eligible respondents for the high-risk survey, 2,000 individuals will need to be screened.

• Eligible high-risk participants will be invited via email to participate in the follow-up high-risk survey. Additional social media ads may also be placed, using the targeting methods described above. In order to survey 1,000 high-risk adults, it is expected that an additional 4,000 individuals will be screened.

Participation in this project is completely voluntary and there are no costs to the respondents other than their time.

Estimated Annualized Burden Hours
Type of respondent | Form name | Number of respondents | Number of responses per respondent | Average burden per response (in hours) | Total burden (in hours)
Adults over 40 | Survey Screener | 1,500 | 1 | 2/60 | 50
Cancer Survivors | Survey Screener | 3,000 | 1 | 2/60 | 100
Adults at High Risk for Cancer | Survey Screener | 2,000 | 1 | 2/60 | 67
Adults at High Risk for Cancer | Follow-Up Screener | 4,000 | 1 | 2/60 | 133
Adults over 40 | General Population Survey | 1,000 | 1 | 22/60 | 367
Cancer Survivors | Survivorship Survey | 1,000 | 1 | 15/60 | 250
Adults at High Risk for Cancer | High-Risk Survey | 1,000 | 1 | 19/60 | 317
Adults at High Risk for Cancer | High-Risk Follow-Up Survey | 1,000 | 1 | 17/60 | 283
Total |  |  |  |  | 1,567

Jeffrey M. Zirger,
Acting Chief, Information Collection Review Office, Office of Scientific Integrity, Office of the Associate Director for Science, Office of the Director, Centers for Disease Control and Prevention.

[FR Doc. 2018-20247 Filed 9-17-18; 8:45 am]

BILLING CODE 4163-18-P